DEPARTMENT OF HEALTH AND HUMAN SERVICES

Centers for Disease Control and Prevention

Delegation of Authority

Notice is hereby given that I have delegated the authority to designate chairs and invite members to serve on the Disease, Disability, and Injury Prevention and Control Special Emphasis Panel to the Centers for Disease Control and Prevention Director (CDC) and the Agency for Toxic Substances and Disease Registry (ATSDR) Administrator. This authority may be redelegated by the CDC Director, or the ATSDR Administrator.

This delegation became effective upon date of signature. In addition, I hereby affirm and ratify any actions taken by you or your subordinates that involved the exercise of the authorities delegated herein, or substantially similar authorities vested in me by prior annual HHS appropriations acts, prior to the effective date of the delegation.

Dated: June 15, 2021.
Xavier Becerra,
Secretary.

[FR Doc. 2021-13605 Filed 6-24-21; 8:45 am]

BILLING CODE 4160-18-P